DEPARTMENT OF DEFENSE

Office of the Secretary

National Defense University Board of Visitors (BOV) Open Meeting

AGENCY: Department of Defense, National Defense University.

ACTION: Notice.

SUMMARY: The President, National Defense University (NDU) has scheduled a meeting of the Board of Visitors. Request subject notice be published in the Federal Register. The National Defense University Board of Visitors is a Federal Advisory Board. The Board meets twice a year in proceedings that are open to the public.

DATES: The meeting will be held on November 15-16, 2006 from 11 a.m. to 5 p.m. on the 15th and continuing on the 16th from 8:30 a.m. to 1:30 p.m.

location: The Board of Visitors meeting will be held at Building 62, Marshall Hall, Room 155, National Defense University, 300 5th Avenue, Fort McNair, Washington, DC 20319-5066.

FOR FURTHER INFORMATION CONTACT: The point of contact for this notice of an “Open Meeting” is Mr. Roy Austin @ (202) 685-2649, Fax (202) 685-3935 or AustinR4@ndu.edu.

SUPPLEMENTARY INFORMATION: The School for National Security Executive Education (SNSEE) progress toward Master of Arts degree in Strategic Security Studies, Center for Technology and National Security Policy (CTNSP) latest research project Fiscal Overview/Budget, Facilities Overview (Tour of Marshall Hall and brief on ongoing repairs), Health of the University (Self Assessment/DIOMI Survey), NDU Information Technology, Transition of National Defense University to National Security University (NSU), as well as other operational issues and areas of interest affecting the day-to-day operations of the National Defense University and its components. The meeting is open to the public; limited space made available for observers will be allocated on a first come, first served basis.

Dated: October 17, 2006.
L.M. Bynum,
Alternate OSD Federal Register Liaison Officer, DoD.

[FR Doc. 06-8824 Filed 10-20-06; 8:45 am]

BILLING CODE 5001-06-M